DEPARTMENT OF THE INTERIOR

Bureau of Land Management

[LLNVL03000 L12320000.EA0000.LVRDNV130000.XXX; 13-08807; MO# 4500089709; TAS: 16X1125]

Notice of 2-year Extension of the Temporary Closure of the Ash Springs Recreation Site on Public Lands in Lincoln County, NV

AGENCY: Bureau of Land Management, Interior.

ACTION: Notice.

SUMMARY: This is to notify the public that a 2-year extension of the temporary closure is in effect on public lands at the Ash Springs Recreation Site administered by the Bureau of Land Management (BLM) Ely District, Caliente Field Office as authorized under the provisions of the Federal Land Policy and Management Act of 1976 and pursuant to BLM regulations.

The Ash Springs Recreation Site located in Lincoln County, Nevada, has been closed for public safety purposes and resource protection for federally listed endangered species and BLM sensitive species.

DATES: This extension of the temporary closure is in effect on the date of publication of this notice in the Federal Register and expires on April 13, 2018.

FOR FURTHER INFORMATION CONTACT: Christopher Carlton, Caliente Field Manager, 775-726-8100, email ccarlton@blm.gov. Persons who use a telecommunications device for the deaf (TDD) may call the Federal Information Relay Service (FIRS) at 1-800-877-8339 to contact the above individual during normal business hours. The FIRS is available 24 hours a day, 7 days a week, to leave a message or question for the above individuals. You will receive a reply during normal business hours.

SUPPLEMENTARY INFORMATION: The Ash Springs Recreation Site is located approximately 100 miles north of Las Vegas along U.S. Highway 93 in Pahranagat Valley in Lincoln County. The recreation site is defined by an existing fence and the closed lands are limited to the fenced area. The affected public lands are described as follows:

Mount Diablo Meridian

T. 6 S., R. 61 E., sec. 6, Lot 8.

The lands described contain 1.18 acres, more or less, in Lincoln County.

An extension of the temporary closure of the Ash Springs Recreation Site is necessary. The BLM currently is in the process of developing a management plan and environmental assessment (EA). The plan will determine the type and level of recreational uses suitable for the site, while protecting habitat for the endangered White River springfish and for three BLM Nevada sensitive species: Pahranagat naucorid bug, Grated tryonia, and Pahranagat pebblesnail. The BLM will analyze any actions for repairing, rehabilitating, and/or reopening the site through the EA in compliance with the National Environmental Policy Act, incorporating public comments.

The BLM analyzed the original temporary closure through an EA #DOI-BLM-NV-L030-0013-0032-EA. The document analyzed the action of temporarily closing the public lands of the Ash Spring Recreation Site to public uses. BLM issued a decision to temporarily close the site on January 29, 2014. The impacts associated with this extension of the original temporary closure are the same as the impacts disclosed in the EA identified above.

This extended temporary closure order is posted at the BLM Ely District Office, Ely, Nevada, and at the Caliente Field Office, Caliente, Nevada. This extended temporary closure applies to all members of the public except: (1) BLM personnel for administrative purposes; (2) Emergency and law enforcement personnel and vehicles while being used for emergency or administrative purposes; and (3) Any person authorized by the Ely District Manager or the Caliente Field Manager. If the BLM is unable to negate the risks to public safety and endangered species habitat, the BLM may consider other options for managing the site.

Enforcement: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

Authority: 43 CFR 8364.1

Christopher Carlton,
Manager, Caliente Field Office.

[FR Doc. 2016-08469 Filed 4-12-16; 8:45 am]

BILLING CODE 4310-HC-P